ENVIRONMENTAL PROTECTION AGENCY

40 CFR Part 271

[EPA-R03-RCRA-2015-0674; FRL-9951-50-Region 3]

Maryland: Final Authorization of State Hazardous Waste Management Program Revisions

AGENCY: Environmental Protection Agency (EPA).

ACTION: Proposed rule.

SUMMARY: Maryland has applied to the United States Environmental Protection Agency (EPA) for final authorization of revisions to its hazardous waste program under the Resource Conservation and Recovery Act (RCRA). EPA proposes to grant final authorization to Maryland. In the Rules and Regulations section of this Federal Register, EPA is authorizing the revisions by a direct final rule. We have explained the reasons for this authorization in the preamble to the direct final rule. Unless EPA receives written comments that oppose this authorization during the comment period, the direct final rule will become effective on the date it establishes, and EPA will not take further action on this proposal.

DATES: Send your written comments by September 29, 2016.

ADDRESSES: Submit your comments, identified by Docket ID No. EPA-R03-RCRA-2015-0674, by one of the following methods:

1. Federal eRulemaking Portal: http://www.regulations.gov. Follow the on-line instructions for submitting comments.

2. Email: pratt.stacie@epa.gov.

3. Mail: Stacie Pratt, Mailcode 3LC50, Office of State Programs, U.S. EPA Region III, 1650 Arch Street, Philadelphia, PA 19103-2029.

4. Hand Delivery: At the previously-listed EPA Region III address. Such deliveries are only accepted during normal hours of operation, and special arrangements should be made for deliveries of boxed information.

For further information on how to submit comments, please see today's direct final rule published in the “Rules and Regulations” section of this Federal Register.

FOR FURTHER INFORMATION CONTACT: Stacie Pratt, Mailcode 3LC50, Office of State Programs, U.S. EPA Region III, 1650 Arch Street, Philadelphia, PA 19103-2029, Phone Number: (215) 814-5173; email address: pratt.stacie@epa.gov

SUPPLEMENTARY INFORMATION: In the Rules and Regulations section of the Federal Register, EPA is authorizing the revisions by a direct final rule. EPA did not make a proposal prior to the direct final rule because we believe this action is not controversial and do not expect comments that oppose it. We have explained the reasons for this authorization in the preamble of the direct final rule. Unless EPA receives adverse written comments that oppose this authorization during the comment period, the direct final rule will become effective on the date it establishes, and EPA will not take further action on this proposal. If EPA receives comments that oppose this action, we will withdraw the Direct Final Rule, and it will not take effect. EPA will then respond to public comments in a later final rule based on this proposal and after consideration of all comments. You may not have another opportunity for comment. If you want to comment on this action, you must do so at this time. For additional information, please see the direct final rule published in the Rules and Regulations section of this Federal Register.

Dated: August 12, 2016.
Shawn M. Garvin,
Regional Administrator, EPA Region III.

[FR Doc. 2016-20842 Filed 8-29-16; 8:45 am]

BILLING CODE 6560-50-P